DEPARTMENT OF TRANSPORTATION

Federal Aviation Administration

14 CFR Part 39

[Docket No. FAA-2012-0917; Directorate Identifier 2012-CE-030-AD; Amendment 39-17177; AD 2012-18-01]

RIN 2120-AA64

Airworthiness Directives; M7 Aerospace LLC Airplanes

AGENCY: Federal Aviation Administration (FAA), DOT.

ACTION: Final rule; request for comments.

SUMMARY: We are adopting a new airworthiness directive (AD) for all M7 Aerospace LLC Models SA226-AT, SA226-T, SA226-T(B), SA226-TC, SA227-AC (C-26A), SA227-BC (C-26A), SA227-CC, SA227-DC (C-26B), SA227-AT, and SA227-TT airplanes. This AD requires repetitively inspecting the left and right forward (main) and aft spar wing-to-fuselage attach fittings for cracks and replacing any cracked fitting. This AD also requires reporting certain inspection results to the FAA. This AD was prompted by reports of fatigue cracking in the left and right forward (main) spar wing-to-fuselage attach fittings. We are issuing this AD to correct the unsafe condition on these products.

DATES: This AD is effective September 21, 2012.

The Director of the Federal Register approved the incorporation by reference of certain publications listed in the AD as of September 21, 2012.

We must receive comments on this AD by October 22, 2012.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this AD, contact M7 Aerospace LP, 10823 NE Entrance Road, San Antonio, Texas 78216; phone: (210) 824-9421; fax: (210) 804-7766; Internet: http://www.m7aerospace.com. You may review copies of the referenced service information at the FAA, Small Airplane Directorate, 901 Locust, Kansas City, Missouri 64106. For information on the availability of this material at the FAA, call 816-329-4148.

Examining the AD Docket

You may examine the AD docket on the Internet at http://www.regulations.gov; or in person at the Docket Management Facility between 9 a.m. and 5 p.m., Monday through Friday, except Federal holidays. The AD docket contains this AD, the regulatory evaluation, any comments received, and other information. The street address for the Docket Office (phone: 800-647-5527) is in the ADDRESSES section. Comments will be available in the AD docket shortly after receipt.

FOR FURTHER INFORMATION CONTACT: Andrew McAnaul, Aerospace Engineer, FAA, ASW-150 (c/o San Antonio MIDO (SW-MIDO-43)), 10100 Reunion Place, Suite 650, San Antonio, Texas 78216; phone: (210) 308-3365; fax: (210) 308-3370; email: andrew.mcanaul@faa.gov.

SUPPLEMENTARY INFORMATION:

Discussion

We have received reports of premature fatigue cracks found in the left and right forward (main) spar wing-to-fuselage attach fittings on M7 Aerospace LLC SA226 and SA227 airplanes. Each airplane is equipped with two attach fittings on the forward (main) spar and two on the aft spar on the left and right side of the airplane. An owner/operator of five of the affected airplanes had the left and right forward (main) spar wing-to-fuselage attach fittings inspected, and all five airplanes had cracks in at least one of the attach fittings. On the 5 airplanes, a total of 20 left and right forward (main) spar wing-to-fuselage attach fittings were inspected; 7 of those were found with cracks. The cracks found emanate from the end pad fastener holes to the free edge of the pad and in the fillet radii of the upper outboard corner on both fitting halves.

M7 Aerospace LLC has included inspection of the aft spar attach fittings in the service information since they are similar to the forward fittings in design and experience equivalent load cycles.

This condition, if not corrected, could result in failure of the wing-to-fuselage attach fitting, which could cause the wing to separate from the airplane.

Relevant Service Information

We reviewed M7 Aerospace LLC SA226 Series Service Bulletin 226-53-016, dated July 27, 2012, with Supplement A—SB 226-53-016, dated June 22, 2012; SA227 Series Service Bulletin 227-53-010, dated July 27, 2012, with Supplement A—SB 227-53-010, dated June 22, 2012; and SA227 Series Service Bulletin CC7-53-006, dated July 27, 2012, with Supplement A—SB CC7-53-006 dated June 22, 2012. The service information describes procedures for repetitively inspecting the left and right forward (main) and aft spar wing-to-fuselage attach fittings for cracks and replacing any cracked fitting.

FAA's Determination

We are issuing this AD because we evaluated all the relevant information and determined the unsafe condition described previously is likely to exist or develop in other products of the same type design.

AD Requirements

This AD requires accomplishing the actions specified in the service information described previously. This AD also requires sending certain inspection results to the FAA.

FAA's Justification and Determination of the Effective Date

An unsafe condition exists that requires the immediate adoption of this AD. The FAA has found that the risk to the flying public justifies waiving notice and comment prior to adoption of this rule because cracks in the wing-to-fuselage attach fittings could cause the fitting to fail, which could result in wing separation from the airplane. Therefore, we find that notice and opportunity for prior public comment are impracticable and that good cause exists for making this amendment effective in less than 30 days.

Comments Invited

This AD is a final rule that involves requirements affecting flight safety and was not preceded by notice and an opportunity for public comment. However, we invite you to send any written data, views, or arguments about this AD. Send your comments to an address listed under the ADDRESSES section. Include the docket number FAA-2012-0917 and Directorate Identifier 2012-CE-030-AD at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD affects 330 airplanes of U.S. registry.

We estimate the following costs to comply with this AD:

Estimated Costs
Action | Labor cost | Parts cost | Cost per product | Cost on U.S. operators
Inspect the left and right forward (main) and aft spar wing-to-fuselage attach fittings for cracks | 52 work-hours × $85 per hour = $4,420 per inspection cycle | Not applicable | $4,420 per inspection cycle | $1,458,600 per inspection cycle.

We estimate the following costs to do any necessary replacements that would be required based on the results of the inspection. We have no way of determining the number of aircraft that might need this replacement:

On-Condition Costs
Action | Labor cost | Parts cost | Cost per product
Replace cracked wing-to-fuselage attach fitting pair | 100 work-hours × $85 per hour = $8,500 | $3,600 | $12,100

Authority for This Rulemaking

Title 49 of the United States Code specifies the FAA's authority to issue rules on aviation safety. Subtitle I, section 106, describes the authority of the FAA Administrator. “Subtitle VII: Aviation Programs” describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2012-18-01 M7 Aerospace LLC (Type Certificate Previously Held by Fairchild Aircraft Incorporated): Amendment 39-17177; Docket No. FAA-2012-0917; Directorate Identifier 2012-CE-030-AD.

(a) Effective Date

This AD is effective September 21, 2012.

(b) Affected ADs

None.

(c) Applicability

This AD applies to M7 Aerospace LLC (type certificate previously held by Fairchild Aircraft Incorporated) Models SA226-AT, SA226-T, SA226-T(B), SA226-TC, SA227-AC (C-26A), SA227-BC (C-26A), SA227-CC, SA227-DC (C-26B), SA227-AT, and SA227-TT airplanes, all serial numbers, that are certificated in any category.

(d) Subject

Joint Aircraft System Component (JASC)/Air Transport Association (ATA) of America Code 5741, Wing, Fuselage Attach Fitting.

(e) Unsafe Condition

This AD was prompted by reports of fatigue cracking in the left and right forward (main) and aft spar wing-to-fuselage attach fittings. We are issuing this AD to correct the unsafe condition on these products.

(f) Compliance

Comply with this AD within the compliance times specified, unless already done.

(g) Inspection

At the initial and repetitive compliance times specified in Appendix 1 to this AD, inspect the left and right forward (main) and aft spar wing-to-fuselage attach fittings for cracks. Do the inspections following M7 Aerospace LLC SA226 Series Service Bulletin 226-53-016, dated July 27, 2012, with Supplement A—SB 226-53-016, dated June 22, 2012; M7 Aerospace LLC SA227 Series Service Bulletin 227-53-010, dated July 27, 2012, with Supplement A—SB 227-53-010, dated June 22, 2012; and M7 Aerospace LLC SA227 Series Service Bulletin CC7-53-006, dated July 27, 2012, with Supplement A—SB CC7-53-006, dated June 22, 2012, as applicable.

(h) Replacement

If cracks are found during any inspection required in paragraph (g) of this AD, before further flight, replace both wing-to-fuselage attach fitting halves (pair) at the cracked fitting location. Do the replacement following M7 Aerospace LLC SA226 Series Service Bulletin 226-53-016, dated July 27, 2012; M7 Aerospace LLC SA227 Series Service Bulletin 227-53-010, dated July 27, 2012; and M7 Aerospace LLC SA227 Series Service Bulletin CC7-53-006, dated July 27, 2012, as applicable.

(i) Reporting Requirement

If cracks are found during any inspection required in paragraph (g) of this AD, within 10 days after the inspection in which cracks are found or within 10 days after the effective date of this AD, whichever occurs later, report the results of the inspections to the FAA, ASW-150 (c/o San Antonio MIDO (SW-MIDO-43)), Attn: Andrew McAnaul, Aerospace Engineer, 10100 Reunion Place, Suite 650, San Antonio, Texas 78216; fax: (210) 308-3370; email: andrew.mcanaul@faa.gov. Please identify AD 2012-18-01 in the subject line if submitted through email. Include the following information in the report:

(1) Length of crack(s) and a general description of the damage.

(2) Airplane model, serial number, aircraft total flight cycles, and total hours time-in-service (TIS).

(3) Using figure 2 in M7 Aerospace LLC SA226 Series Service Bulletin 226-53-016, dated July 27, 2012; M7 Aerospace LLC SA227 Series Service Bulletin 227-53-010, dated July 27, 2012; and M7 Aerospace LLC SA227 Series Service Bulletin CC7-53-006, dated July 27, 2012, as applicable, indicate location of damage, show forward orientation using arrows, and orientation of crack.

(4) Whether the airplane has had, or is suspected of having, a hard landing in the past.

(j) Paperwork Reduction Act Burden Statement

A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(k) Alternative Methods of Compliance (AMOCs)

(1) The Fort Worth Airplane Certification Office, FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

(l) Related Information

For more information about this AD, contact Andrew McAnaul, Aerospace Engineer, FAA, ASW-150 (c/o San Antonio MIDO (SW-MIDO-43)), 10100 Reunion Place, Suite 650, San Antonio, Texas 78216; phone: (210) 308-3365; fax: (210) 308-3370; email: andrew.mcanaul@faa.gov.

(m) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) M7 Aerospace LLC SA226 Series Service Bulletin 226-53-016, dated July 27, 2012, with Supplement A—SB 226-53-016, dated June 22, 2012.

(ii) M7 Aerospace LLC SA227 Series Service Bulletin 227-53-010, dated July 27, 2012, with Supplement A—SB 227-53-010, dated June 22, 2012.

(iii) M7 Aerospace LLC SA227 Series Service Bulletin CC7-53-006, dated July 27, 2012, with Supplement A—SB CC7-53-006, dated June 22, 2012.

(3) For M7 Aerospace LLC service information identified in this AD, contact M7 Aerospace LP, 10823 NE Entrance Road, San Antonio, Texas 78216; phone: (210) 824-9421; fax: (210) 804-7766; Internet: http://www.m7aerospace.com.

(4) You may view this service information at FAA, Small Airplane Directorate, 901 Locust, Kansas City, Missouri 64106. For information on the availability of this material at the FAA, call 816-329-4148.

(5) You may view this service information that is incorporated by reference at the National Archives and Records Administration (NARA). For information on the availability of this material at NARA, call 202-741-6030, or go to: http://www.archives.gov/federal-register/cfr/index.html.

Appendix 1 to AD 2012-18-01

Initial and Repetitive Inspection Compliance Times

Models SA226-AT, SA226-T, SA226-T(B), SA226-TC, All Serial Numbers

Initial Inspection—As of September 21, 2012 (the effective date of this AD):

For owner/operators who do not track total aircraft flight cycles (TAC), for the purposes of this AD, use the following conversion calculation: Use a .5 to 1 conversion, e.g., 35,000 TAC is equivalent to 17,500 hours time-in-service (TIS).

For owner/operators who do not track flight cycles, for the purposes of this AD use the following conversion calculation for the initial inspection compliance time: Use a 1 to 1 conversion, e.g., 300 flight cycles are equivalent to 300 hours TIS.

For airplanes with more than 35,000 TAC: Inspect within the next 300 flight cycles after September 21, 2012 (the effective date of this AD).

For airplanes with at least 20,000 TAC but no more than 35,000 TAC: Inspect within the next 500 flight cycles after September 21, 2012 (the effective date of this AD).

For airplanes with at least 10,600 TAC but no more than 19,999 TAC: Inspect within the next 1,000 flight cycles after September 21, 2012 (the effective date of this AD).

For airplanes with less than 10,600 TAC: Inspect upon reaching 10,600 TAC or within the next 1,000 flight cycles after September 21, 2012 (the effective date of this AD), whichever occurs later.

Repetitive Inspection:

For owner/operators who do not track flight cycles, for the purposes of this AD use the following conversion calculation for the repetitive inspection compliance times: Use a .5 to 1 conversion, e.g., 10,600 flight cycles are equivalent to 5,300 hours TIS.

If no cracks are found during the initial inspection or during any subsequent repetitive inspection required by this AD and the original wing-to-fuselage attach fitting is reinstalled using the same size bolts, repetitively thereafter inspect every 10,600 flight cycles.

Initial and Repetitive Inspection Compliance Times

If no cracks are found during the initial inspection or during any subsequent repetitive inspection required by this AD and the original wing-to-fuselage attach fitting is reinstalled using oversized bolts, repetitively thereafter inspect every 7,700 flight cycles.

If cracks are found during the initial inspection or during any subsequent repetitive inspection required by this AD and the replacement wing-to-fuselage attach fitting is installed using the same size bolts, repetitive thereafter inspect every 16,600 flight cycles.

If cracks are found during the initial inspection or during any subsequent repetitive inspection required by this AD and the replacement wing-to-fuselage attach fitting is installed using the oversized bolts, repetitive thereafter inspect every 13,100 flight cycles.

Models SA227-CC and SA227-DC (C-26B), All Serial Numbers

Initial Inspection—As of September 21, 2012 (the effective date of this AD):

For owner/operators who do not track total aircraft flight cycles (TAC), for the purposes of this AD, use the following conversion calculation: Use a .5 to 1 conversion, e.g., 35,000 TAC is equivalent to 17,500 hours time-in-service (TIS).

For owner/operators who do not track flight cycles, for the purposes of this AD use the following conversion calculation for the initial inspection compliance time: Use a 1 to 1 conversion, e.g., 300 flight cycles are equivalent to 300 hours TIS.

For airplanes with more than 35,000 TAC: Inspect within the next 300 flight cycles after September 21, 2012 (the effective date of this AD).

For airplanes with at least 20,000 TAC but no more than 35,000 TAC: Inspect within the next 500 flight cycles after September 21, 2012 (the effective date of this AD).

For airplanes with at least 14,200 TAC but no more than 19,999 TAC: Inspect within the next 1,000 flight cycles after September 21, 2012 (the effective date of this AD).

For airplanes with less than 14,200 TAC: Inspect upon reaching 14,200 TAC or within the next 1,000 flight cycles after September 21, 2012 (the effective date of this AD), whichever occurs later.

Initial and Repetitive Inspection Compliance Times

Repetitive Inspection

For owner/operators who do not track flight cycles, for the purposes of this AD use the following conversion calculation for the repetitive inspection compliance times: Use a .5 to 1 conversion, e.g., 14,200 flight cycles are equivalent to 7,100 hours TIS.

If no cracks are found during the initial inspection or during any subsequent repetitive inspection required by this AD and the original wing-to-fuselage attach fitting is reinstalled using the same size bolts, repetitively thereafter inspect every 14,200 flight cycles.

If no cracks are found during the initial inspection or during any subsequent repetitive inspection required by this AD and the original wing-to-fuselage attach fitting is reinstalled using oversized bolts, repetitively thereafter inspect every 10,900 flight cycles.

If cracks are found during the initial inspection or during any subsequent repetitive inspection required by this AD and the replacement wing-to-fuselage attach fitting is installed using the same size bolts, repetitive thereafter inspect every 16,600 flight cycles.

If cracks are found during the initial inspection or during any subsequent repetitive inspection required by this AD and the replacement wing-to-fuselage attach fitting is installed using the oversized bolts, repetitive thereafter inspect every 13,100 flight cycles.

Models SA227-AC (C-26A) and SA227-AT: Serial Numbers 600 and Subsequent; and Model SA227-BC (C-26A) Airplanes, All Serial Numbers

Initial Inspection—As of September 21, 2012 (the effective date of this AD):

For owner/operators who do not track total aircraft flight cycles (TAC), for the purposes of this AD, use the following conversion calculation: Use a .5 to 1 conversion, e.g., 35,000 TAC is equivalent to 17,500 hours time-in-service (TIS).

For owner/operators who do not track flight cycles, for the purposes of this AD use the following conversion calculation for the initial inspection compliance time: Use a 1 to 1 conversion, e.g., 300 flight cycles are equivalent to 300 hours TIS.

For airplanes with more than 35,000 TAC: Inspect within the next 300 flight cycles after September 21, 2012 (the effective date of this AD).

Inspection Compliance Times

For airplanes with at least 20,000 TAC but no more than 35,000 TAC: Inspect within the next 500 flight cycles after September 21, 2012 (the effective date of this AD).

For airplanes with at least 14,200 TAC but no more than 19,999 TAC: Inspect within the next 1,000 flight cycles after September 21, 2012 (the effective date of this AD).

For airplanes with less than 14,200 TAC: Inspect upon reaching 14,200 TAC or within the next 1,000 flight cycles after September 21, 2012 (the effective date of this AD), whichever occurs later.

Repetitive Inspection

For owner/operators who do not track flight cycles, for the purposes of this AD use the following conversion calculation for the repetitive inspection compliance times: Use a .5 to 1 conversion, e.g., 14,200 flight cycles are equivalent to 7,100 hours TIS.

If no cracks are found during the initial inspection or during any subsequent repetitive inspection required by this AD and the original wing-to-fuselage attach fitting is reinstalled using the same size bolts, repetitively thereafter inspect every 14,200 flight cycles.

If no cracks are found during the initial inspection or during any subsequent repetitive inspection required by this AD and the original wing-to-fuselage attach fitting is reinstalled using oversized bolts, repetitively thereafter inspect every 10,900 flight cycles.

If cracks are found during the initial inspection or during any subsequent repetitive inspection required by this AD and the replacement wing-to-fuselage attach fitting is installed using the same size bolts, repetitive thereafter inspect every 16,600 flight cycles.

If cracks are found during the initial inspection or during any subsequent repetitive inspection required by this AD and the replacement wing-to-fuselage attach fitting is installed using the oversized bolts, repetitive thereafter inspect every 13,100 flight cycles.

Inspection Compliance Times

Models SA227-AC (C-26A) and SA227-AT: All Serial Numbers Through 599; and Model SA227-TT Airplanes, All Serial Numbers

Initial Inspection—As of September 21, 2012 (the effective date of this AD):

For owner/operators who do not track total aircraft flight cycles (TAC), for the purposes of this AD, use the following conversion calculation: Use a .5 to 1 conversion, e.g., 35,000 TAC is equivalent to 17,500 hours time-in-service (TIS).

For owner/operators who do not track flight cycles, for the purposes of this AD use the following conversion calculation for the initial inspection compliance time: Use a 1 to 1 conversion, e.g., 300 flight cycles are equivalent to 300 hours TIS.

For airplanes with more than 35,000 TAC: Inspect within the next 300 flight cycles after September 21, 2012 (the effective date of this AD).

For airplanes with at least 20,000 TAC but no more than 35,000 TAC: Inspect within the next 500 flight cycles after September 21, 2012 (the effective date of this AD).

For airplanes with at least 10,600 TAC but no more than 19,999 TAC: Inspect within the next 1,000 flight cycles after September 21, 2012 (the effective date of this AD).

For airplanes with less than 10,600 TAC: Inspect upon reaching 10,600 TAC or within the next 1,000 flight cycles after September 21, 2012 (the effective date of this AD), whichever occurs later.

Repetitive Inspection:

For owner/operators who do not track flight cycles, for the purposes of this AD use the following conversion calculation for the repetitive inspection compliance times: Use a .5 to 1 conversion, e.g., 10,600 flight cycles are equivalent to 5,300 hours TIS.

If no cracks are found during the initial inspection or during any subsequent repetitive inspection required by this AD and the original wing-to-fuselage attach fitting is reinstalled using the same size bolts, repetitively thereafter inspect every 10,600 flight cycles.

Inspection Compliance Times

If no cracks are found during the initial inspection or during any subsequent repetitive inspection required by this AD and the original wing-to-fuselage attach fitting is reinstalled using oversized bolts, repetitively thereafter inspect every 7,700 flight cycles.

If cracks are found during the initial inspection or during any subsequent repetitive inspection required by this AD and the replacement wing-to-fuselage attach fitting is installed using the same size bolts, repetitive thereafter inspect every 16,600 flight cycles.

If cracks are found during the initial inspection or during any subsequent repetitive inspection required by this AD and the replacement wing-to-fuselage attach fitting is installed using the oversized bolts, repetitive thereafter inspect every 13,100 flight cycles.

Issued in Kansas City, Missouri, on August 24, 2012.
Earl Lawrence,
Manager, Small Airplane Directorate, Aircraft Certification Service.

[FR Doc. 2012-21536 Filed 9-5-12; 8:45 am]

BILLING CODE 4910-13-P